DEPARTMENT OF HEALTH AND HUMAN SERVICES

Office of the Secretary

Office of Minority Health; Notice of a Cooperative Agreement With the Asian and Pacific Islander American Health Forum Inc.

AGENCY: Office of the Secretary, Office of Minority Health, DHHS.

ACTION: Notice of a Single Source Cooperative Agreement with the Asian and Pacific Islander American Health Forum Inc.

Project Title: Cooperative Agreement to Improve the Health Status of Minority Populations.

OMB Catalog of Federal Domestic Assistance: The Catalog of Federal Domestic Assistance number for this cooperative agreement is 93.004.

Authority: This cooperative agreement is authorized under Section 1707 (e)(1) of the Public Health Service Act, as amended.

The Office of Minority Health (OMH), Office of Public Health and Science, announces it is continuing to support a single source umbrella cooperative agreement with the Asian and Pacific Islander American Health Forum, Inc., (APIAHF) for it to expand and enhance its activities in promoting policy, developing community capacity building for health advocacy, providing health and U.S. Census data analysis and information dissemination, and convening regional and national conferences on Asian American and Pacific Islander (AAPI) health to develop action agendas that will address improving the health status of AAPI communities. This cooperative agreement will continue the broad programmatic framework in which specific projects can be supported by various governmental agencies.

The OMH expects substantial programmatic involvement in this project with the APIAHF to assist in identifying health-related information, including HIV/AIDS; serve as liaison for identifying speakers, facilitators, and consultants for leadership development and training for AAPI communities; and assist in the identification of information on HHS activities, events, and reports for dissemination to the AAPI communities in order to increase their knowledge and involvement.

This cooperative agreement will be continued for an additional 5-year project period with 12-month budget periods. Depending upon the types of projects and availability of funds, it is anticipated that this cooperative agreement will receive approximately $100,000 per year. The continuation awards within the project period will be made on the basis of satisfactory progress and the availability of funds.

During the last 5 years, APIAHF has successfully demonstrated the ability to work with its partners, including health departments, community-based organizations (CBOs), private sector organizations, and foundations. It has developed leadership skills within AAPI communities and improved technological capacity in CBOs for information dissemination. The OMH believes APIAHF is uniquely qualified to accomplish the purpose of this cooperative agreement and that no organization other than APIAHF could fulfill the program objectives for the reasons cited below. It has:

• Developed and expanded an infrastructure to coordinate the advocacy for various medical intervention and health promotion programs within local communities and service delivery organizations that deal extensively with AAPI health issues.

• Established linkages with leaders and experts in the advocacy, development, and promotion of policies for AAPI health issues.

• Developed the resources and the capability to accurately collect, analyze, and disseminate health and population data on AAPIs to assist in program planning, needs assessment, defining geographic service areas and scope of services, program evaluation, and policy development.

• Promoted leadership development in AAPI communities to address HIV/AIDS prevention and care.

• Established an Asian and Pacific Islander HIV/AIDS Information Network to improve communication channels with stakeholders, including the AAPI community, researchers, and policy-makers, in order to enhance their awareness of AAPI HIV/AIDS and related issues and to increase the HIV/AIDS programmatic capacities of AAPI organizations.

• Promoted coalition-building and developed health care capacity within local AAPI communities.

Where To Obtain Additional Information

If you are interested in obtaining additional information regarding this cooperative agreement, contact Ms. Cynthia Amis, Office of Minority Health, 5515 Security Lane, Suite 1000, Rockville, Maryland 20852 or telephone (301) 594-0769.

Dated: September 21, 2000.
Nathan Stinson, Jr.,
Deputy Assistant Secretary for Minority Health.

[FR Doc. 00-24969 Filed 9-28-00; 8:45 am]

BILLING CODE 4160-17-P